DEPARTMENT OF ENERGY

Federal Energy Regulatory Commission

[Docket Nos. EF06-5031-000, et al.]

United States Department of Energy, et al.; Electric Rate and Corporate Filings

November 18, 2005.

The following filings have been made with the Commission. The filings are listed in ascending order within each docket classification.

1. United States Department of Energy Western Area Power Administration

[Docket No. EF06-5031-000]

Take notice that on November 10, 2005, the Deputy Secretary of the Department of Energy, confirmed and approved Rate Schedules P-SED-F8 and P-SED-FP8, specified in Rate Order No. WAPA-126, for the Pick-Sloan Missouri Basin Program—Eastern Division (P-SMBP-ED).

Comment Date: 5 p.m. Eastern time on December 1, 2005.

2. United States Department of Energy Western Area Power Administration

[Docket No. EF06-5181-000]

Take notice that on November 10, 2005, the Deputy Secretary of the Department of Energy, confirmed and approved L-F6, specified in Rate Order No. WAPA-125 for Loveland Area Projects firm electric service.

Comment Date: 5 p.m. Eastern time on December 1, 2005.

3. PSI Energy, Inc.

[Docket No. ER96-2506-008]

Take notice that on November 16, 2005, Cinergy Entities submitted revised sheets for tariff filed and in this proceeding pursuant to a July 15, 2005 Commission Order.

Comment Date: 5 p.m. Eastern time on November 28, 2005.

4. New York Independent System Operator, Inc.

[Docket No. ER04-230-021]

Take notice that on October 31, 2005, the New York Independent System Operator, Inc. (NYISO) tendered for filing a report on its plan and schedule for shortening time periods for posting notices of price corrections and for correcting prices under its Temporary Extraordinary Procedures (TEP), as well as eventually phasing out the TEP altogether.

Comment Date: 5 p.m. Eastern time on November 28, 2005.

5. Hot Spring Power Company, LP

[Docket No. ER05-1419-002]

Take notice that on November 9, 2005, Hot Spring Power Company, LP, submits under protest a Conditional Notice of Cancellation of its Rate Schedule FERC No. 2.

Comment Date: 5 p.m. Eastern time on November 30, 2005.

6. New York Independent System Operator, Inc.

Docket No. ER06-185-000]

Take notice that on November 8, 2005, the New York Independent System Operator, Inc. (NYISO) tendered for filing a report on certain errors that were made in the changes to the Market Mitigation Measures, Attachment H to its Market Administration and Control Area Services Tariff.

Comment Date: 5 p.m. Eastern time on November 29, 2005.

7. Southern California Edison Company

[Docket No. ER06-186-000]

Take notice that on November 10, 2005, Southern California Edison Company (SCE) tendered for filing a revision to its Transmission Owner Tariff, FERC Electric Tariff, Section Revised Volume No. 6 with an effective date of January 10, 2006.

Comment Date: 5 p.m. Eastern time on December 1, 2005.

Standard Paragraph:

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-6677 Filed 11-29-05; 8:45 am]

BILLING CODE 6717-01-P